COMMITTEE FOR THE IMPLEMENTATION OF TEXTILE AGREEMENTS

Denial of Participation in the Special Access Program

September 21, 2000.

AGENCY: Committee for the Implementation of Textile Agreements (CITA).

ACTION: Issuing a directive to the Commissioner of Customs suspending participation in the Special Access Program.

EFFECTIVE DATE: September 25, 2000.

FOR FURTHER INFORMATION CONTACT: Lori E. Mennitt, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

The Committee for the Implementation of Textile Agreements (CITA) has determined that Stone Manufacturing, Inc. has violated the requirements for participation in the Special Access Program, and has suspended Stone Manufacturing, Inc. from participation in the Program for the period September 25, 2000 through September 24, 2002.

Through the letter to the Commissioner of Customs published below, CITA directs the Commissioner to prohibit entry of products under the Special Access Program by or on behalf of Stone Manufacturing Inc. during the period September 25, 2000 through September 24, 2002, and to prohibit entry by or on behalf of Stone Manufacturing, Inc. under the Program of products manufactured from fabric exported from the United States during that period.

Requirements for participation in the Special Access Program are available in Federal Register notice 63 FR 16474, published on April 3, 1998.

Richard B. Steinkamp,
Acting Chairman, Committee for the Implementation of Textile Agreements.

Committee for the Implementation of Textile Agreements

September 21, 2000.

Commissioner of Customs,

Department of the Treasury, Washington, DC 20229.

Dear Commissioner: The purpose of this directive is to notify you that the Committee for the Implementation of Textile Agreements has suspended Stone Manufacturing, Inc. from participation in the Special Access Program for the period September 25, 2000 through September 24, 2002. You are therefore directed to prohibit entry of products under the Special Access Program by or on behalf of Stone Manufacturing, Inc. during the period September 25, 2000 through September 24, 2002. You are further directed to prohibit entry of products under the Special Access Program by or on behalf of Stone Manufacturing, Inc. manufactured from fabric exported from the United States during the period September 25, 2000 through September 24, 2002.

Sincerely,

Richard B. Steinkamp,

Acting Chairman, Committee for the Implementation of Textile Agreements.

[FR Doc.00-24829 Filed 9-26-00; 8:45 am]

BILLING CODE 3510-DR-F